DEPARTMENT OF THE INTERIOR

Bureau of Land Management

[WY-020-08-1220-DA]

Notice of Intent To Name a Geographic Location the Craig Thomas Little Mountain Special Management Area, Big Horn County, WY

AGENCY: Bureau of Land Management, Interior.

ACTION: Notice of intent.

SUMMARY: The Bureau of Land Management (BLM) announces its intent to name an area of the public lands administered by the Cody Field Office. These lands include the Little Mountain Area of Critical Environmental Concern (ACEC), a portion of the West Slope Special Recreation Management Area (SRMA), and recently acquired lands near Little Mountain. In recognition of the late United States Senator Craig Thomas' support and assistance in furthering public land management in the area administered by the BLM Cody Field Office, this notice announces that those public lands collectively will be known as the “Craig Thomas Little Mountain Special Management Area”.

DATES: This naming will be in effect the date this notice appears in the Federal Register.

ADDRESSES: Additional information regarding the naming and the public lands affected by it may be obtained by written request to the BLM Cody Field Office, P.O. Box 518, Cody, Wyoming 82414; or by visiting the BLM Cody Field Office, 1002 Blackburn Avenue, Cody, Wyoming, during its business hours (7:45 a.m. to 4:30 p.m., Monday through Friday, except holidays).

FOR FURTHER INFORMATION CONTACT: Mike Stewart, Field Manager, BLM, Cody Field Office, P.O. Box 518, 1002 Blackburn Avenue, Cody, Wyoming 82414. Mr. Stewart may also be contacted by telephone at (307) 578-5900.

SUPPLEMENTARY INFORMATION: In June 2003, the BLM acquired approximately 8,200 acres of land on and near Little Mountain, approximately 15 miles east of Lovell, Wyoming. The land was previously part of the Devils Canyon Ranch. Acquisition of the land improved access to thousands of acres of State, BLM-administered public, and National Forest System lands on the western slope of the Bighorn Mountains. Funding for the first phase of the acquisition was made through a $4 million congressional appropriation from the Land and Water Conservation Fund Act and by a $100,000 donation from the Rocky Mountain Elk Foundation. An additional 3,000 acres are being held by the Trust for Public Land, a national land conservation group, for transfer to the BLM at a later date. When the transfer occurs, these lands would automatically become part of the Craig Thomas Little Mountain Special Management Area.

The area proposed for naming offers a variety of recreational and educational opportunities and sites of historic, cultural, and paleontological interest. Portions of the area lie within the Little Mountain ACEC and the West Slope SRMA, as established in the Cody Resource Management Plan (RMP). The RMP restricts vehicular travel to designated roads and trails within the area administered by the Cody Field Office. The specific routes designated for travel were established by an Activity Plan and its implementation is currently in progress.

The following described lands are included: Approximately 69,253 acres of BLM-managed public land in Townships 56 through 58 North, and Ranges 92 through 94 West, 6th Principal Meridian lying north of U.S. Highway Alternate 14 (14A), south of the Montana state line, east of the Bighorn Canyon National Recreation Area, and west of the Bighorn National Forest.

James K. Murkin,
Acting Associate State Director.

[FR Doc. E8-6936 Filed 4-2-08; 8:45 am]

BILLING CODE 4310-22-P